DEPARTMENT OF TRANSPORTATION

Surface Transportation Board

[Finance Docket No. 33928]

Norfolk Southern Corporation and Norfolk Southern Railway—Construction and Operation in Indiana County, PA

AGENCY: Surface Transportation Board, DOT.

ACTION: Notice of availability of environmental assessment and request for comments.

SUMMARY: The Norfolk Southern Corporation and Norfolk Southern Railway (Norfolk Southern) has petitioned the Surface Transportation Board (Board) for authority to construct and operate a 5.26-mile line of railroad between Saltsburg and Clarksburg, in Indiana County, Pennsylvania (the Saltsburg Connection). The Surface Transportation Board's (Board) Section of Environmental Analysis (SEA) has prepared a Environmental Assessment (EA) for this project. Based on the information provided and the environmental analysis conducted to date, the EA preliminarily concludes that this proposal should not significantly affect the quality of the human environment if the recommended mitigation measures set forth in the EA are implemented. Accordingly, SEA recommends, that if the Board approves this project, Norfolk Southern be required to implement the mitigation set forth in the EA. Copies of the EA have been served on all interested parties and will be made available to additional parties upon request. SEA will consider all comments received when making its final environmental recommendation to the Board. The Board will consider SEA's final recommendations and the complete environmental record in making its final decision in this proceeding.

DATES: The EA is available for public review and comment for 30 days. Parties should provide written comments to the Board no later than December 19, 2002.

ADDRESSES: Comments (an original and 10 copies) regarding this EA should be submitted in writing to: Surface Transportation Board, Case Control Unit, 1925 K Street, NW, Suite 700, Washington, DC 20423 to the attention of Ms. Phillis Johnson-Ball, Environmental Comments, Finance Docket 33929.

FOR FURTHER INFORMATION CONTACT: Ms. Phillis Johnson-Ball, Environmental Project Manager, at (202) 565-1530 (TDD for the hearing impaired (1-800-877-8339). To obtain a copy of the EA, contact Da 2 Da Legal, 1925 K Street, NW., Washington, DC 20006, phone (202) 293-7776 or visit the Board's Web site at http://www.stb.dot.gov.

SUPPLEMENTARY INFORMATION: The construction and operation of the Saltsburg Connection is part of a larger Norfolk Southern project, the Keystone Project, which would also involve the rehabilitation of 10.89 miles of an out-of-service line between Clarksburg and Shelocta and the modification of the existing Keystone Connection near Shelocta by the addition of 1,450 feet of new single track that will connect the rehabilitated Clarksburg Segment with an existing industrial track that services the Keystone Plant. The Keystone Project would create a new route from the south, the Southern Route, for Norfolk Southern to serve the Keystone Plant. The proposed rehabilitation of the Clarksburg Segment and the modification of the Keystone Connection are not actions before the Board and do not trigger an environmental review under the National Environmental Policy Act or the Board's environmental rules at 49 CFR 1105. Board approval is not required to improve or upgrade an existing line that does not extend the railroad's territory. Nor is approval required to construct or modify an existing connection, so long as the purpose and effect is not to extend the railroad's territory.

By the Board, Victoria J. Rutson, Chief, Section of Environmental Analysis.
Vernon A. Williams,
Secretary.

[FR Doc. 02-29329 Filed 11-19-02; 8:45 am]

BILLING CODE 4915-00-P